DEPARTMENT OF LABOR

Agency Information Collection Activities; Submission for OMB Review; Veterans Supplement to the Current Population Survey

ACTION: Notice of availability; request for comments.

SUMMARY: The Department of Labor (DOL) is submitting this Bureau of Labor Statistics (BLS)-sponsored information collection request (ICR) to the Office of Management and Budget (OMB) for review and approval in accordance with the Paperwork Reduction Act of 1995 (PRA). Public comments on the ICR are invited.

DATES: The OMB will consider all written comments that the agency receives on or before July 5, 2024.

ADDRESSES: Written comments and recommendations for the proposed information collection should be sent within 30 days of publication of this notice to www.reginfo.gov/public/do/PRAMain. Find this particular information collection by selecting “Currently under 30-day Review—Open for Public Comments” or by using the search function.

Comments are invited on: (1) whether the collection of information is necessary for the proper performance of the functions of the Department, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

FOR FURTHER INFORMATION CONTACT: Nicole Bouchet by telephone at 202-693-0213, or by email at DOL_PRA_PUBLIC@dol.gov.

SUPPLEMENTARY INFORMATION: The Veterans Supplement to the Current Population Survey is conducted annually. This supplement is co-sponsored by the U.S. Department of Veterans Affairs and by the U.S. Department of Labor's Veterans Employment and Training Service. Data collected through this supplement will be used by the co-sponsors to determine policies that better meet the needs of our Nation's veteran population. The supplement provides information on the labor force status of veterans with a service-connected disability, combat veterans, past or present National Guard and Reserve members, and recently discharged veterans. Afghanistan, Iraq, and Vietnam veterans are identified by location of service. Also, questions include items about veterans' transition from Active Duty to civilian employment, details about working with service-connected disabilities, awareness of VA benefits, and work duties while in the Armed Forces. Data are provided by period of service and a range of demographic characteristics. The supplement also provides information on veterans' participation in various transition and employment and training programs. Respondents are veterans who are not currently on active duty or are members of a household where a veteran lives. For additional substantive information about this ICR, see the related notice published in the Federal Register on February 27, 2024 (89 FR 14522).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

Agency: DOL-BLS.

Title of Collection: Veterans Supplement to the Current Population Survey.

OMB Control Number: 1220-0102.

Affected Public: Individuals or Households.

Total Estimated Number of Respondents: 5,500.

Total Estimated Number of Responses: 5,500.

Total Estimated Annual Time Burden: 390 hours.

Total Estimated Annual Other Costs Burden: $7,504.

(Authority: 44 U.S.C. 3507(a)(1)(D))

Nicole Bouchet,
Senior Paperwork Reduction Act Analyst.

[FR Doc. 2024-12162 Filed 6-3-24; 8:45 am]

BILLING CODE 4510-24-P